DEPARTMENT OF COMMERCE

Foreign-Trade Zones Board

[B-61-2013]

Foreign-Trade Zone 28—New Bedford, Massachusetts, Application for Subzone, Talbots Import, LLC, Lakeville, Massachusetts

An application has been submitted to the Foreign-Trade Zones (FTZ) Board (the Board) by the City of New Bedford, grantee of FTZ 28, requesting special-purpose subzone status for the facility of Talbots Import, LLC (Talbots), located in Lakeville, Massachusetts. The application was submitted pursuant to the provisions of the Foreign-Trade Zones Act, as amended (19 U.S.C. 81a-81u), and the regulations of the FTZ Board (15 CFR part 400). It was formally docketed on June 13, 2013.

The proposed subzone (116 acres) is located at 175-190 Kenneth W. Welch Drive, Lakeville, Massachusetts. No authorization for production activity has been requested at this time.

In accordance with the FTZ Board's regulations, Kathleen Boyce of the FTZ Staff is designated examiner to review the application and make recommendations to the FTZ Board.

Public comment is invited from interested parties. Submissions shall be addressed to the FTZ Board's Executive Secretary at the address below. The closing period for their receipt is July 30, 2013. Rebuttal comments in response to material submitted during the foregoing period may be submitted during the subsequent 15-day period to August 14, 2013.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov (202) 482-1346.

Dated: June 13, 2013.
Elizabeth Whiteman,
Acting Executive Secretary.

[FR Doc. 2013-14775 Filed 6-19-13; 8:45 am]

BILLING CODE 3510-DS-P